NUCLEAR REGULATORY COMMISSION

[50-461]

Amergen Energy Company, LLC; Clinton Power Station; Environmental Assessment and Finding of No Significant Impact

The U.S. Nuclear Regulatory Commission (the Commission) is considering issuance of an amendment to Facility Operating License No. NPF-62, issued to AmerGen Energy Company, LLC (the licensee), for operation of the Clinton Power Station, located in DeWitt County, Illinois.

Environmental Assessment

Identification of the Proposed Action

The proposed action would approve changes to the Updated Safety Analysis Report (USAR) concerning design requirements for physical protection from tornado missiles for safety-related equipment.

The proposed action is in accordance with the licensee's application for amendment dated March 1, 1999.

The Need for the Proposed Action

During reviews of safety-related targets susceptible to tornado missile damage, it was identified that some building penetrations, ventilation openings, doors, and piping connected to the reactor core isolation cooling storage tank are not protected from tornado missiles. An analysis was performed to demonstrate that the probability of damage due to tornado missiles striking safety-related equipment is acceptably low. Therefore, the proposed action is needed to avoid unnecessary construction of tornado missile protection.

Environmental Impacts of the Proposed Action

The Commission has evaluated the proposed action and concludes that there will be no physical change to the plant as-built; therefore, there will be no environmental impacts due to construction.

With regard to plant design, the proposed action will not significantly increase the probability or consequences of accidents, no changes are being made in the types of any effluents that may be released off site, and there is no significant increase in occupational or public radiation exposure. Therefore, there are no significant radiological environmental impacts associated with the proposed action.

With regard to potential non-radiological impacts, the proposed action does not involve any historic sites. It does not affect non-radiological plant effluents and has no other environmental impact. Therefore, there are no significant non-radiological environmental impacts associated with the proposed action.

Accordingly, the Commission concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Alternative Use of Resources

This action does not involve the use of any resources not previously considered in the Final Environmental Statement for the Clinton Power Station.

Agencies and Persons Consulted

In accordance with its stated policy, on December 28, 1999, the staff consulted with the Illinois State official, Joseph Brittin, of the Illinois Department of Nuclear Safety, regarding the environmental impact of the proposed action. The State official had no comments.

Finding of No Significant Impact

On the basis of the environmental assessment, the Commission concludes that the proposed action will not have a significant effect on the quality of the human environment. Accordingly, the Commission has determined not to prepare an environmental impact statement for the proposed action.

For further details with respect to the proposed action, see the licensee's letter dated March 1, 1999, which is available for public inspection at the Commission's Public Document Room, The Gelman Building, 2120 L Street, NW., Washington, DC, and accessible electronically through the ADAMS Public Electronic Reading Room link at the NRC Web site (http://www.nrc.gov).

Dated at Rockville, Maryland, this 27th day of January 2000.
For the Nuclear Regulatory Commission.
Jon B. Hopkins,
Senior Project Manager, Section 2, Project Directorate III, Division of Licensing Project Management, Office of Nuclear Reactor Regulation.

[FR Doc. 00-2231 Filed 2-1-00; 8:45 am]

BILLING CODE 7590-01-P